DEPARTMENT OF DEFENSE

Office of the Secretary

[Transmittal No. 21-13]

Arms Sales Notification

AGENCY: Defense Security Cooperation Agency, Department of Defense (DoD).

ACTION: Arms sales notice.

SUMMARY: The DoD is publishing the unclassified text of an arms sales notification.

FOR FURTHER INFORMATION CONTACT: Neil Hedlund at neil.g.hedlund.civ@mail.mil or (703) 697-9214.

SUPPLEMENTARY INFORMATION: This 36(b)(1) arms sales notification is published to fulfill the requirements of section 155 of Public Law 104-164 dated July 21, 1996. The following is a copy of a letter to the Speaker of the House of Representatives, Transmittal 21-13 with attached Policy Justification and Sensitivity of Technology.

Dated: October 13, 2021.
Aaron T. Siegel,
Alternate OSD Federal Register Liaison Officer, Department of Defense.

Transmittal No. 21-13

Notice of Proposed Issuance of Letter of Offer Pursuant to Section 36(b)(1) of the Arms Export Control Act, as Amended

(i) Prospective Purchaser: Government of India

(ii) Total Estimated Value:

Major Defense Equipment * | $2.05 billion
Other | $0.37 billion
Total | $2.42 billion

Funding Source: National Funds

(iii) Description and Quantity or Quantities of Articles or Services under Consideration for Purchase:

Major Defense Equipment (MDE):

Six (6) P-8I Patrol Aircraft

Eight (8) Multifunctional Information Distribution System-Joint Tactical Radio Systems 5 (MIDS-JTRS 5) (6 installed, 2 spares)

Forty-two (42) AN/AAR-54 Missile Warning Sensors (36 installed, 6 spares)

Fourteen (14) LN-251 with Embedded Global Positioning Systems (GPS)/Inertial Navigations Systems (EGIs) (12 installed, 2 spares)

Non-MDE:

Also included are CFM56-7 commercial engines; Tactical Open Mission Software (ITOMS) variant for P-8I; Electro-Optical (EO) and Infrared (IR) MX-20HD; AN/AAQ-2(V)l Acoustic System; ARES-1000 commercial variant Electronic Support Measures; AN/APR-39D Radar Warning Receiver; AN/ALE-47 Counter Measures Dispensing System; support equipment and spares; publications; repair and return; transportation; aircraft ferry; training; U.S. Government and contractor engineering, software, technical, and logistics support services; and other related elements of logistical and program support.

(iv) Military Department: Navy (IN-P-SBB)

(v) Prior Related Cases, if any: None

(vi) Sales Commssion, Fee, etc., Paid, Offered, or Agreed to be Paid: None

(vii) Sensitivity of Technology Contained in the Defense Article or Defense Services Proposed to be Sold: See Attached Annex

(viii) Date Report Delivered to Congress: April 30, 2021

*As defined in Section 47(6) of the Arms Export Control Act.

POLICY JUSTIFICATION

India—P-8I and Associated Support

The Government of India has requested to buy six (6) P-8I Patrol aircraft; eight (8) Multifunctional Information Distribution System-Joint Tactical Radio Systems 5 (MIDS-JTRS 5) (6 installed, 2 spares); forty-two (42) AN/AAR-54 Missile Warning Sensors (36 installed, 6 spares); and fourteen (14) LN-251 with Embedded Global Positioning Systems (GPS)/Inertial Navigations Systems (EGIs) (12 installed, 2 spares). Also included are CFM56-7 commercial engines; Tactical Open Mission Software (ITOMS) variant for P-8I; Electro-Optical (EO) and Infrared (IR) MX-20HD; AN/AAQ-2(V)l Acoustic System; ARES-1000 commercial variant Electronic Support Measures; AN/APR-39D Radar Warning Receiver; AN/ALE-47 Counter Measures Dispensing System; support equipment and spares; publications; repair and return; transportation; aircraft ferry; training; U.S. Government and contractor engineering, software, technical, and logistics support services; and other related elements of logistical and program support. The total estimated program cost is $2.42 billion.

This proposed sale will support the foreign policy and national security of the United States by helping to strengthen the U.S.-Indian strategic relationship and to improve the security of a major defensive partner, which continues to be an important force for political stability, peace, and economic progress in the Indo-Pacific and South Asia region.

The Indian Navy procured eight P-8I aircraft from Boeing in January 2009, via Direct Commercial Sale and contracted for an additional four aircraft in July 2016. The first P-8I aircraft were delivered to the Indian Navy in 2013, providing interoperability and critical capabilities to coalition maritime operations. This proposed sale of an additional six P-8I aircraft will allow the Indian Navy to expand its maritime surveillance aircraft (MSA) capability for the next 30 years. India will have no difficulty absorbing these aircraft into its armed forces.

The proposed sale of this equipment and support will not alter the basic military balance in the region.

The prime contractor will be The Boeing Company, Seattle, WA. The purchaser typically requests offsets. Any offset agreement will be defined in negotiations between the purchaser and the prime contractor.

Implementation of this proposed sale will require approximately four (4) contractor personnel to support the program execution in-country.

There will be no adverse impact on U.S. defense readiness as a result of this proposed sale.

Transmittal No. 21-13

Notice of Proposed Issuance of Letter of Offer Pursuant to Section 36(b)(l)

of the Arms Export Control Act

Annex

Item No. vii

(vii) Sensitivity of Technology:

1. The P-8I is the Indian variant of the P-8A developed by Boeing, and it was initially sold commercially to the Government of India in 2009. The P-8I contains a number of unique mission systems from both Indian and other non-U.S. suppliers to meet Indian Navy requirements. The P-8A aircraft is a militarized version of the Boeing 737-800 Next Generation (NG) commercial aircraft. The P-8A replaced the P-3C as the Navy's long-range Anti-Submarine Warfare (ASW); Anti-Surface Warfare (ASuW); and Intelligence, Surveillance and Reconnaissance (ISR) aircraft. P-8I mission systems include:

a. Tactical Open Mission Software (ITOMS) variant for P-8I. ITOMS functions include environment planning, tactical aids, weapons planning aids, and data correlation. ITOMS includes an algorithm for track fusion which automatically correlates tracks produced by on board and off board sensors.

b. Electro-Optical (EO) and Infrared (IR) MX-20HD. The EO/IR system processes visible EO and IR spectrum to detect and image objects.

c. AN/AAQ-2(V)l Acoustic System. The Acoustic sensor system is integrated within the mission system as the primary sensor or the aircraft ASW missions. The Acoustic sensor system is integrated within the mission system as the primary sensor for the aircraft ASW missions consisting of an Ultra-Flightline Receiver, Ultra-Flightline Electronics Positioning System, Boeing Acoustics Processor and a L-3 Comm Data Recorder. The system has 64 sonobuoy processing capability.

d. ARES-1000 Electronic Support Measures (ESM). This is a commercial system which provides real time capability for the automatic detection, location, measurement, and analysis of RF-signals and modes. Real time results are compared with a library of known emitters to perform emitter classification. It does not contain U.S. specific emitter identification technologies nor is it capable of using U.S. libraries or parametric data.

e. Electronic Warfare Self Protection (EWSP). The P-8I aircraft EWSP consists of the ALQ-213 Electronic Warfare Management System (EWMS), AN/AAR-54 Missile Warning Sensors, AN/ALE-47 Countermeasures Dispensing System (CMDS), and AN/APR-39D RADAR Warning Receiver. The EWSP includes threat information.

f. Multifunctional Information Distribution System-Joint Tactical Radio System 5 (MIDS-JTRS 5) is an advanced Link-16 Command, Control, Communications, and Intelligence (C3I) system incorporating high-capacity, jam-resistant, digital communication links for exchange of near real-time tactical information, including both data and voice, among air, ground, and sea elements.

g. The LN-251 with Embedded Global Positioning System (GPS)/lnertial Navigations Systems (EGls) is a sensor that combines Global Positioning System (GPS) and inertial sensor inputs to provide accurate location information for navigation and targeting.

2. The highest level of classification of defense articles, components, and services included in this potential sale is SECRET.

3. If a technologically advanced adversary were to obtain knowledge of the specific hardware and software elements, the information could be used to develop countermeasures which might reduce weapon system effectiveness or be used in the development of a system with similar or advanced capabilities.

4. A determination has been made that India can provide substantially the same degree of protection for the sensitive technology being released as the U.S. Government. This sale is necessary in furtherance of the U.S. foreign policy and national security objectives outlined in the Policy Justification.

5. All defense articles and services listed in this transmittal have been authorized for release and export to the Government of India.

[FR Doc. 2021-22668 Filed 10-15-21; 8:45 am]

BILLING CODE 5001-06-P